DEPARTMENT OF HOUSING AND URBAN DEVELOPMENT

[Docket No. FR-5045-N-12]

Federal Property Suitable as Facilities to Assist the Homeless

AGENCY: Office of the Assistant Secretary for Community Planning and Development, HUD.

ACTION: Notice.

SUMMARY: This Notice identifies unutilized, underutilized, excess, and surplus Federal property reviewed by HUD for suitability for possible use to assist the homeless.

FOR FURTHER INFORMATION CONTACT: Kathy Ezzell, room 7266, Department of Housing and Urban Development, 451 Seventh Street SW., Washington, DC 20410; telephone (202) 708-1234; TTY number for the hearing- and speech-impaired (202) 708-2565 (these telephone numbers are not toll-free), or call the toll-free Title V information line at 1-800-927-7588.

SUPPLEMENTARY INFORMATION: In accordance with 24 CFR part 581 and section 501 of the Stewart B. McKinney Homeless Assistance Act (42 U.S.C. 11411), as amended, HUD is publishing this Notice to identify Federal buildings and other real property that HUD has reviewed for suitability for use to assist the homeless. The properties were reviewed using information provided to HUD by Federal landholding agencies regarding unutilized and underutilized buildings and real property controlled by such agencies or by GSA regarding its inventory of excess or surplus Federal property. This Notice is also published in order to comply with the December 12, 1988 Court Order in National Coalition for the Homeless v. Veterans Administration, No. 88-2503-OG (D.D.C.).

Properties reviewed are listed in this Notice according to the following categories: Suitable/available, suitable/unavailable, suitable/to be excess, and unsuitable. The properties listed in the three suitable categories have been reviewed by the landholding agencies, and each agency has transmitted to HUD: (1) Its intention to make the property available for use to assist the homeless, (2) its intention to declare the property excess to the agency's needs, or (3) a statement of the reasons that the property cannot be declared excess or made available for use as facilities to assist the homeless.

Properties listed as suitable/available will be available exclusively for homeless use for a period of 60 days from the date of this Notice. Where property is described as for “off-site use only” recipients of the property will be required to relocate the building to their own site at their own expense. Homeless assistance providers interested in any such property should send a written expression of interest to HHS, addressed to John Hicks, Division of Property Management, Program Support Center, HHS, room 5B-17, 5600 Fishers Lane, Rockville, MD 20857; (301) 443-2265. (This is not a toll-free number.) HHS will mail to the interested provider an application packet, which will include instructions for completing the application. In order to maximize the opportunity to utilize a suitable property, providers should submit their written expressions of interest as soon as possible. For complete details concerning the processing of applications, the reader is encouraged to refer to the interim rule governing this program, 24 CFR part 581.

For properties listed as suitable/to be excess, that property may, if subsequently accepted as excess by GSA, be made available for use by the homeless in accordance with applicable law, subject to screening for other Federal use. At the appropriate time, HUD will publish the property in a Notice showing it as either suitable/available or suitable/unavailable.

For properties listed as suitable/unavailable, the landholding agency has decided that the property cannot be declared excess or made available for use to assist the homeless, and the property will not be available.

Properties listed as unsuitable will not be made available for any other purpose for 20 days from the date of this Notice. Homeless assistance providers interested in a review by HUD of the determination of unsuitability should call the toll free information line at 1-800-927-7588 for detailed instructions or write a letter to Mark Johnston at the address listed at the beginning of this Notice. Included in the request for review should be the property address (including zip code), the date of publication in the Federal Register, the landholding agency, and the property number.

For more information regarding particular properties identified in this Notice (i.e., acreage, floor plan, existing sanitary facilities, exact street address), providers should contact the appropriate landholding agencies at the following addresses: ARMY: Ms. Audrey Ormerod, Headquarters, Office of the Assistant Chief of Staff for Installation Management, Attn: DAIM-MD, Room 1E677, 600 Army Pentagon, Washington, DC 20310; (703) 601-2520; ENERGY: Mr. John Watson, Department of Energy, Office of Engineering & Construction Management, ME-90, 1000 Independence Ave, SW., Washington, DC 20585: (202) 586-0072; GSA: Mr. John Kelly, Acting Deputy. Assistant Commissioner, General Services Administration, Office of Property Disposal, 18th & F Streets, NW., Washington, DC 20405; (202) 501-0084; NAVY: Mr. Warren Meekins, Department of the Navy, Real Estate Services, Naval Facilities Engineering Command, Washington Navy Yard, 1322 Patterson Ave., SE., Suite 1000, Washington, DC 20374-5065; (202) 685-9305; (These are not toll-free numbers).

Dated: March 16, 2006.
Mark R. Johnston,
Acting Deputy Assistant, Secretary for Special Needs.

Title V, Federal Surplus Property Program Federal Register Report for March 24, 2006

Suitable/Available Properties

Buildings (by State)

Georgia

Bldg. 01150

Hunter Army Airfield

Savannah Co: Chatham GA 31409-

Landholding Agency: Army

Property Number: 21200610037

Status: Excess

Comment: 137 sq. ft., most recent use—flam mat storage, off-site use only

Bldg. 01151

Hunter Army Airfield

Savannah Co: Chatham GA 31409-

Landholding Agency: Army

Property Number: 21200610038

Status: Excess

Comment: 78 sq. ft., most recent use—flam mat storage, off-site use only

Bldg. 01153

Hunter Army Airfield

Savannah Co: Chatham GA 31409-

Landholding Agency: Army

Property Number: 21200610039

Status: Excess

Comment: 211 sq. ft., most recent use—flam mat storage, off-site use only

Bldg. 01530

Fort Stewart

Liberty Co: GA 31314-

Landholding Agency: Army

Property Number: 21200610048

Status: Excess

Comment: 80 sq. ft., most recent use—scale house, off-site use only

Bldg. 08032

Fort Stewart

Liberty Co: GA 31314-

Landholding Agency: Army

Property Number: 21200610051

Status: Excess

Comment: 2592 sq. ft., needs rehab, most recent use—storage/stable, off-site use only

North Carolina

Ft. Johnston Family Housing Area

E. Moore/Ft. Johnston Place

Southport Co: Brunswick NC 28461-

Landholding Agency: GSA

Property Number: 54200610012

Status: Excess

Comment: 7994 sq. ft. includes residence, duplexes, tennis courts, service bldg., garage, present of asbestos/lead paint, National Register of Historic Places

GSA Number: 4-D-NC-0748

Suitable/Unavailable Properties

Buildings (by State)

Georgia

Bldg. 01243

Hunter Army Airfield

Savannah Co: Chatham GA 31409-

Landholding Agency: Army

Property Number: 21200610040

Status: Excess

Comment: 1258 sq. ft., most recent use—ref/ac facility, off-site use only

Bldg. 01244

Hunter Army Airfield

Savannah Co: Chatham GA 31409-

Landholding Agency: Army

Property Number: 21200610041

Status: Excess

Comment: 4096 sq. ft., presence of asbestos, most recent use—hdqts. facility, off-site use only

Bldg. 01318

Hunter Army Airfield

Savannah Co: Chatham GA 31409-

Landholding Agency: Army

Property Number: 21200610042

Status: Excess

Comment: 1500 sq. ft., most recent use—storage, off-site use only

Bldg. 00612

Fort Stewart

Liberty Co: GA 31314-

Landholding Agency: Army

Property Number: 21200610043

Status: Excess

Comment: 5298 sq. ft., needs rehab, most recent use—health clinic, off-site use only

Bldg. 00614

Fort Stewart

Liberty Co: GA 31314-

Landholding Agency: Army

Property Number: 21200610044

Status: Excess

Comment: 10,157 sq. ft., needs rehab, most recent use—brigade hqtrs, off-site use only

Bldg. 00618

Fort Stewart

Liberty Co: GA 31314-

Landholding Agency: Army

Property Number: 21200610045

Status: Excess

Comment: 6137 sq. ft., needs rehab, most recent use—brigade hqtrs, off-site use only

Bldg. 00628

Fort Stewart

Liberty Co: GA 31314-

Landholding Agency: Army

Property Number: 21200610046

Status: Excess

Comment: 10,050 sq. ft., needs rehab, most recent use—brigade hqtrs, off-site use only

Bldg. 01079

Fort Stewart

Liberty Co: GA 31314-

Landholding Agency: Army

Property Number: 21200610047

Status: Excess

Comment: 7680 sq. ft., most recent use—range/target house, off-site use only

Bldg. 07901

Fort Stewart

Liberty Co: GA 31314-

Landholding Agency: Army

Property Number: 21200610049

Status: Excess

Comment: 4800 sq. ft., most recent use—range support, off-site use only

Bldg. 08031

Fort Stewart

Liberty Co: GA 31314-

Landholding Agency: Army

Property Number: 21200610050

Status: Excess

Comment: 1296 sq. ft., most recent use—range/target house, off-site use only

Bldg. 08081

Fort Stewart

Liberty Co: GA 31314-

Landholding Agency: Army

Property Number: 21200610052

Status: Excess

Comment: 1296 sq. ft., most recent use—range/target house, off-site use only

Bldg. 08252

Fort Stewart

Liberty Co: GA 31314-

Landholding Agency: Army

Property Number: 21200610053

Status: Excess

Comment: 145 sq. ft., most recent use—control tower, off-site use only

Unsuitable Properties

Buildings (by State)

California

Indian Creek Tullis Property

Hwy 299

Douglas City Co: Trinity CA 96024-0162

Location: Republication

Landholding Agency: GSA

Property Number: 54200540017

Status: Surplus

Reason: Floodway

GSA Number: 9-I-CA-1652

Bldgs. 31926, 31927, 31928

Marine Corps Base

Camp Pendleton Co: CA 92055-

Landholding Agency: Navy

Property Number: 77200610058

Status: Excess

Reason: Extensive deterioration

Bldg. 41326

Marine Corps Base

Camp Pendleton Co: CA 92055-

Landholding Agency: Navy

Property Number: 77200610059

Status: Excess

Reason: Extensive deterioration

Bldg. 41816

Marine Corps Base

Camp Pendleton Co: CA 92055-

Landholding Agency: Navy

Property Number: 77200610060

Status: Excess

Reason: Extensive deterioration

Indiana

Hammond Depot

3200 S. Sheffield Ave.

Hammond Co: Lake IN

Landholding Agency: GSA

Property Number: 54200610013

Status: Excess

Reasons: Within 2000 ft. of flammable or explosive material various contaminants

GSA Number: 1-G-IN-600

New Haven Deport

15411 Dawkins Road

New Haven Co: IN 46774-

Landholding Agency: GSA

Property Number: 54200610014

Status: Excess

Reasons: Within 2000 ft. of flammable or explosive material various contaminants

GSA Number: 1-G-IN-600

Maine

Bldg. A38

Portsmouth Naval Shipyard

Kittery Co: York ME 03804-

Landholding Agency: Navy

Property Number: 77200610062

Status: Excess

Reason: Secured Area

Quarters U

Portsmouth Naval Shipyard

Kittery Co: York ME 03804-

Landholding Agency: Navy

Property Number: 77200610063

Status: Excess

Reason: Secured Area

Maryland

Curtis Bay Depot

710 Ordnance Road

Baltimore Co: MD 21226-

Landholding Agency: GSA

Property Number: 54200610015

Status: Excess

Reasons: Within 2000 ft. of flammable or explosive material various contaminants

GSA Number: 4-G-MD-0619

Nevada

10 Bldgs.

Nevada Test Site

Mercury Co: Nye NV 89023-

Landholding Agency: Energy

Property Number: 41200610003

Status: Excess

Reason: Secured Area

New York

Binghamton Depot

1151 Hoyt Ave.

Binghamton Co: NY 13091-

Landholding Agency: GSA

Property Number: 54200610016

Status: Excess

Reason: Within 2000 ft. of flammable or explosive material

GSA Number: 1-G-NY-0760

Scotia Depot

One Amsterdam Road

Scotia Co: NY 12302-

Landholding Agency: GSA

Property Number: 54200610017

Status: Excess

Reasons: Within 2000 ft. of flammable or explosive material various contaminants

GSA Number: 1-G-NY-0917

Voorheesville Depot

Route 201

Voorheesville Co: NY 12085-

Landholding Agency: GSA

Property Number: 54200610018

Status: Excess

Reasons: Within 2000 ft. of flammable or explosive material various contaminants

GSA Number: 1-G-NY-0917

Pennsylvania

Marietta Depot

Vinegar Ferry Road

Marietta Co: Lancaster PA 17547-

Landholding Agency: GSA

Property Number: 54200610019

Status: Excess

Reasons: Within 2000 ft. of flammable or explosive material various contaminants

GSA Number: 4-G-PA-0672

Land (by State)

Hawaii

Portion, Lualualei

Access Road

Waianae Co: Honolulu HI 96792-

Landholding Agency: GSA

Property Number: 54200610011

Status: Excess

Reason: Within 2000 ft. of flammable or explosive material

GSA Number: 9-N-HI-628

[FR Doc. 06-2740 Filed 3-23-06; 8:45 am]

BILLING CODE 4210-67-P